DEPARTMENT OF THE INTERIOR

Bureau of Land Management

[LLNML0310000 L12200000.BY0000]

Notice of Temporary Vehicle Closure and Restrictions for the Robledo Mountains Off-Highway Vehicle Trails During the 2009 Chili Challenge; Dona Ana County, NM

AGENCY: Bureau of Land Management (BLM), Interior.

ACTION: Notice of temporary vehicle closure and restrictions.

SUMMARY: This Notice informs the public that the Las Cruces Four-Wheel Drive Club is permitted exclusive use of the Robledo Mountains Off-Highway Vehicle Trails for the 2009 Chili Challenge extreme off-road event. The Robledo Mountains Off-Highway Vehicle Trails will be closed to all vehicles not registered with the Las Cruces Four-Wheel Drive Club for the Chili Challenge. This restriction is necessary to ensure public safety and to avoid potential user conflicts during this authorized event. The 2009 Chili Challenge was analyzed in Environmental Assessment and Finding Of No Significant Impact NM-030-2008-095. The Robledo Mountains Off-Highway Vehicle Trails are located within public land under BLM administrative jurisdiction in:

New Mexico Principal Meridian

T. 21 S., R 1 E.,

Secs. 6, 19, 20, 29, 30, and 31

T. 22S, R. 1 W.,

Secs. 1, 2, 23, 24, 25, 26, 35, 36

Maps showing the location of the Robledo Mountains Off-Highway Vehicle Trails are available upon request from the BLM Las Cruces District Office.

Exceptions: The use of motorized vehicles for emergency and law enforcement purposes, or for official duties, or as otherwise authorized by the BLM are exempt from these restrictions.

DATES: This authorization is effective from Friday, February 20 through Sunday, February 22, 2009.

FOR FURTHER INFORMATION CONTACT: John V. Thacker, BLM Outdoor Recreation Planner, 1800 Marquess Street, Las Cruces, New Mexico 88005, 575-525-4306.

SUPPLEMENTARY INFORMATION: The authority for this Notice may be found at 43 CFR 8364.1. Restricting motorized use of these routes would lessen user conflict and provide for a more enjoyable experience during the annual Chili Challenge for those motorized users holding a Special Recreation Permit.

Enforcement actions will be taken as necessary in accordance with 43 CFR 8360.0-7 and 18 U.S.C. 3571. Violations may be punishable by a fine not to exceed $1,000 and/or imprisonment not to exceed 12 months.

Jim C. McCormick, Jr.,
Acting, District Manager.

[FR Doc. E9-1417 Filed 1-22-09; 8:45 am]

BILLING CODE 4310-VC-P